DEPARTMENT OF COMMERCE

[I.D. 082001A ]

Submission for OMB Review; Comment Request

SUMMARY: The Department of Commerce has submitted to the Office of Management and Budget (OMB) for clearance the following proposal for collection of information under the provisions of the Paperwork Reduction Act (44 U.S.C. Chapter 35).

SUPPLEMENTARY INFORMATION: Agency: National Oceanic and Atmospheric Administration (NOAA).

Title: Submission of Conservation Efforts to Make Listings Unnecessary Under the Endangered Species Act.

Form Number(s): None.

OMB Approval Number: None.

Type of Request: Regular submission.

Burden Hours: 720.

Number of Respondents: 3.

Average Hours Per Response: 320 hours for an agreement, 160 hours per year for monitoring, and 40 hours for an annual report.

Needs and Uses: The National Marine Fisheries Service and the U.S. Fish and Wildlife Service (the “Services”) have announced a draft policy on the criteria the Services will use to evaluate conservation efforts by states and other non-Federal entities. The Services take these efforts into account when making decisions on whether to list a species as threatened or endangered under the Endangered Species Act. Efforts usually involve the development of a conservation plan or agreement, procedures for monitoring the effectiveness of the plan or agreement, and an annual report.

Affected Public: State, local, or tribal Government; business or other for-profit organizations.

Frequency: On occasion, annually.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: August 16, 2001.
Madeleine Clayton,
Departmental Paperwork Clearance Officer, Office of the Chief Information Officer.

[FR Doc. 01-21329 Filed 8-22-01; 8:45 am]

BILLING CODE 3510-22-S